DEPARTMENT OF THE INTERIOR

Fish and Wildlife Service

[FWS-R4-ES-2009-N287; 40120-1113-0000-C2]

Notice of Availability of a Technical Agency Draft Recovery Plan for Pyne's Ground-Plum (Astragalus bibullatus) for Review and Comment

AGENCY: Fish and Wildlife Service, Interior.

ACTION: Notice of document availability and opening of public comment period.

SUMMARY: We, the Fish and Wildlife Service, announce the availability of the technical agency draft recovery plan for Pyne's ground-plum (Astragalus bibullatus), a species endemic to the Central Basin in Tennessee. The draft recovery plan includes specific recovery objectives and criteria the species would have to meet in order for us to downlist it to threatened status or delist it under the Endangered Species Act of 1973, as amended (Act). We request review and comment on this draft recovery plan from local, State, and Federal agencies, and the public.

DATES: In order to be considered, we must receive comments on the draft recovery plan on or before June 1, 2010.

ADDRESSES: If you wish to review the draft recovery plan, you may obtain a copy by contacting the Tennessee Field Office, U.S. Fish and Wildlife Service, 446 Neal Street, Cookeville, TN 38501 (telephone 931/528-6481), or by visiting our recovery plan Web site at http://endangered.fws.gov/recovery/index.html#plans. If you wish to comment, you may submit your comments by any one of several methods:

1. You may submit written comments and materials to the Field Supervisor, at the above address.

2. You may hand-deliver written comments to our Tennessee Field Office at the above address, or fax your comments to 931/528-7075.

3. You may send comments by e-mail to geoff_call@fws.gov.

For additional information about submitting comments, see the “Request for Public Comments” section below.

FOR FURTHER INFORMATION CONTACT: Geoff Call at the above address (telephone 931/528-6481, ext. 213).

SUPPLEMENTARY INFORMATION:

Background

We listed Pyne's ground-plum as an endangered species under the Act (16 U.S.C. 1531 et seq.), on September 26, 1991 (56 FR 48748). This species is a rare perennial member of the pea family (Fabaceae) endemic to the limestone cedar glades in the Central Basin Section of the Interior Low Plateau (Tennessee). It is currently known from only eight extant occurrences (specific locations or sites) located within 90 square miles in Rutherford County, Tennessee, within a short distance of the rapidly growing city of Murfreesboro.

Factors contributing to its endangered status are an extremely limited range and loss of habitat. The primary threat is the loss of habitat from residential, commercial, or industrial development; livestock grazing; woody encroachment; and recreational uses such as all terrain vehicles.

Restoring an endangered or threatened animal or plant to the point where it is again a secure, self-sustaining member of its ecosystem is a primary goal of the endangered species program. To help guide the recovery effort, we are preparing recovery plans for most listed species. Recovery plans describe actions considered necessary for conservation of the species, establish criteria for downlisting or delisting, and estimate time and cost for implementing recovery measures.

The Act requires the development of recovery plans for listed species, unless such a plan would not promote the conservation of a particular species. Section 4(f) of the Act requires us to provide a public notice and an opportunity for public review and comment during recovery plan development. We will consider all information presented during a public comment period prior to approval of each new or revised recovery plan. We and other Federal agencies will take these comments into account in the course of implementing approved recovery plans.

The objective of this technical agency draft plan is to provide a framework for the recovery of this species so that protection under the Act is no longer necessary. Pyne's ground-plum will be considered for reclassification to threatened status when there are nine occurrences that are distributed throughout the cedar glade ecosystem of the Stones River Basin within Davidson, Rutherford, and Wilson Counties. Each occurrence should have at least 100 plants, be maintained for at least 5 years, have a cooperative management agreement in place, and be located on lands owned and managed by a public agency, or located on private lands protected by a permanent conservation easement.

Pyne's ground-plum will be considered for delisting when there are 12 occurrences that are distributed throughout the cedar glade ecosystem of the Stones River Basin within Davidson, Rutherford, and Wilson Counties. Each occurrence should have at least 100 plants, be maintained for at least 10 years, have a cooperative management agreement in place, and be located on lands owned and managed by a public agency or located on private lands protected by a permanent conservation easement.

As reclassification and recovery criteria are met, the status of the species will be reviewed and it will be considered for reclassification or removal from the Federal List of Endangered and Threatened Wildlife and Plants.

Request for Public Comments

We request written comments on the recovery plan. We will consider all comments we receive by the date specified in DATES prior to final approval of the plan.

Public Availability of Comments

Before including your address, phone number, e-mail address, or other personal identifying information in your comment, you should be aware that your entire comment—including your personal identifying information—may be made publicly available at any time. While you can ask us in your comment to withhold your personal identifying information from public review, we cannot guarantee that we will be able to do so.

Authority

The authority for this action is section 4(f) of the Endangered Species Act, 16 U.S.C. 1533(f).

Dated: January 14, 2010.
Jeffrey M. Fleming,
Acting Regional Director, Southeast Region.

[FR Doc. 2010-7373 Filed 3-31-10; 8:45 am]

BILLING CODE 4310-55-P